DEPARTMENT OF LABOR

Mine Safety and Health Administration

Proposed Information Collection Request Submitted for Public Comment and Recommendations; Petitions for Modification of Mandatory Safety Standards

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Submit comments on or before May 26, 2000.

ADDRESSES: Send comments to Theresa O'Malley, Program Analysis Officer, Office of Program Evaluation and Information Resources, 4015 Wilson Boulevard, Room 715, Arlington, VA 22203-1984. Commenters are encouraged to send their comments on a computer disk, or via E-mail to tomalley@msha.gov, along with an original printed copy. Ms. O'Malley can be reached at (703) 235-1910 (voice) or (703) 235-5551 (facsimile).

SUPPLEMENTARY INFORMATION:

I. Background

Section 101(c) of the Federal Mine Safety and Health Act of 1977 (Mine Act), 30 U.S.C. 811(c), provides that a mine operator or a representative of miners may petition the Secretary to modify the application of a mandatory safety standard. A petition for modification may be granted if the Secretary of Labor (Secretary) determines: (1) That an alternative method of achieving the results of the standard exists and that it will guarantee, at all times, no less than the same measure of protection for the miners affected as that afforded by the standard; or (2) that the application of the standard will result in a diminution of safety to the miners affected.

Petitions for Modification must be in writing and contain the petitioner's name and address, the mailing address and mine identification number of the mine or mines affected, the mandatory safety standard to which the petition is directed, a concise statement of the modification requested; a detailed statement of the facts that show the grounds upon which a modification is claimed or warranted; and, if the petitioner is a mine operator, the identity of any representative of miners at the affected mine.

II. Desired Focus of Comments

Currently, the Mine Safety and Health Administration (MSHA) is soliciting comments concerning the proposed extension of the information collection related to the Petitions for Modification. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and then choosing “Statutory and Regulatory Information: and then “Paperwork Reduction Act Submissions” (http://www.msha.gov/regspwork.htm) or by contacting the employee listed below in the FOR FURTHER INFORMATION CONTACT section of this notice.

III. Current Actions

Each petition for modification must be investigated by MSHA on a mine-by-mine basis and a decision reached on the merits. A mine operator may only request modification of one mandatory safety standard per petition. However, a mine operator may file a petition for more than one mine by showing that identical issues of law and fact exist for each mine.

Type of Review: Extension.

Agency: Mine Safety and Health Administration.

Title: Petitions for Modification of Mandatory Safety Standards.

OMB Number: 1219-0065.

Affected Public: Business or other for-profit institutions.

Frequency: On occasion.

Cite/Reference/Form/etc: 30 CFR 44.9, 44.10, and 44.11

Total Respondents: 140 mine operators.

Total Responses: 110.

Average Time per Response: 40 hours.

Estimated Total Burden Hours: 4,400 hours.

Estimated Total Burden Cost: $150,420.

Comments submitted in response to this notice will be summarized and/or included in the request for Office of Management and Budget approval of the information collection request; they will also become a matter of public record.

Dated: March 21, 2000.
Theresa M. O'Malley,
Program Analysis Officer, Program Evaluation and Information Resources.

[FR Doc. 00-7475 Filed 3-24-00; 8:45 am]

BILLING CODE 4510-43-M